DEPARTMENT OF DEFENSE

Department of the Navy

Meeting of the Board of Visitors of Marine Corps University

AGENCY: Department of the Navy, DoD.

ACTION: Notice of Open Meeting.

SUMMARY: The Board of Visitors of the Marine Corps University will meet to review, develop and provide recommendations on all aspects of the academic and administrative policies of the University; examine all aspects of professional military education operations; and provide such oversight and advice, as is necessary, to facilitate high educational standards and cost effective operations. The Board will be focusing primarily on the internal procedures of Marine Corps University. All sessions of the meeting will be open to the public.

DATES: The meeting will be held on Thursday, May 1, 2014, from 1:00 p.m. to 4:30 p.m. and Friday, May 2, 2014, from 8:00 a.m.-1:00 p.m.

ADDRESSES: The meeting will be held at the Marine Corps University in Quantico, Virginia. The address is: 2076 South St, Quantico, VA 22134.

FOR FURTHER INFORMATION CONTACT: Jay Hatton, Director of Academic Support, Marine Corps University Board of Visitors, 2076 South Street, Quantico, VA 22134, telephone number 703-784-4037.

Meeting Announcement: Due to difficulties finalizing the meeting agenda for the scheduled meeting of May 1-2, 2014, of the Marine Corps University Board of Visitors the requirements of 41 CFR 102-3.150(a) were not met. Accordingly, the Advisory Committee Management Officer for the Department of Defense, pursuant to 41 CFR 102-3.150(b), waives the 15-calendar day notification requirement.

Dated: April 9, 2014.
P.A. Richelmi,
Lieutenant, Office of the Judge Advocate General, U.S. Navy, Alternate Federal Register Liaison Officer.

[FR Doc. 2014-08451 Filed 4-14-14; 8:45 am]

BILLING CODE 3810-FF-P